DEPARTMENT OF LABOR

Office of the Secretary

Agency Information Collection Activities; Submission for OMB Review; Comment Request; VETS/USERRA/VP (VETS-1010 Form)

ACTION: Notice of availability; request for comments.

SUMMARY: The Department of Labor (DOL) is submitting the Veterans' Employment and Training Service (VETS) sponsored information collection request (ICR) titled, “VETS/USERRA/VP (VETS-1010 Form)” to the Office of Management and Budget (OMB) for review and approval for continued use, without change, in accordance with the Paperwork Reduction Act of 1995 (PRA). Public comments on the ICR are invited.

DATES: The OMB will consider all written comments that agency receives on or before March 2, 2020.

ADDRESSES: A copy of this ICR with applicable supporting documentation; including a description of the likely respondents, proposed frequency of response, and estimated total burden may be obtained free of charge from the RegInfo.gov website at http://www.reginfo.gov/public/do/PRAViewICR?ref_nbr=201906-1293-003 (this link will only become active on the day following publication of this notice) or by contacting Frederick Licari by telephone at 202-693-8073, TTY 202-693-8064, (these are not toll-free numbers) or by email at DOL_PRA_PUBLIC@dol.gov.

Submit comments about this request by mail to the Office of Information and Regulatory Affairs, Attn: OMB Desk Officer for DOL-VETS, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW, Washington, DC 20210; or by email: DOL_PRA_PUBLIC@dol.gov.

FOR FURTHER INFORMATION CONTACT: Frederick Licari by telephone at 202-693-8073, TTY 202-693-8064, (these are not toll-free numbers) or by email at DOL_PRA_PUBLIC@dol.gov.

SUPPLEMENTARY INFORMATION: This ICR seeks to extend PRA authority for the VETS/USERRA/VP (VETS-1010 Form) information collection. The VETS USERRA/VP Form 1010 (VETS-1010 Form) is used to file complaints with the Department of Labor's Veterans' Employment and Training Service (VETS) under either the Uniformed Services Employment and Reemployment Rights Act (USERRA) or the laws and regulations related to Veterans' Preference (VP) in Federal employment. On October 13, 1994, the Uniformed Services Employment and Reemployment Rights Act (USERRA), Public Law 103-353, 108 Stat. 3150 was signed into law. Contained in Title 38, U.S.C. 4301- 4335, USERRA is the replacement for the Veterans' Reemployment Rights (VRR) law.

The purposes of USERRA laws and regulations are:

• To minimize disruption to the lives of persons who perform service in the uniformed services (including the National Guard and Reserves), as well as to their employers, their fellow employees, and their communities, by providing for prompt reemployment of such persons upon completion of such service;

• To encourage individuals to participate in non-career uniformed service by eliminating and minimizing the disadvantages to civilian careers and employment which can result from such service; and

• To prohibit discrimination in employment and acts of reprisal against persons because of their obligations in the uniformed services, prior service, intention to join the uniformed services, filing of a USERRA claim, seeking assistance concerning an alleged USERRA violation, testifying in a proceeding, or otherwise assisting in an investigation of a USERRA claim.

The Veterans Employment Opportunities Act (VEOA) of 1998, Public Law 105-339, 12 Stat. 3182, contained in Title 5 U.S.C. 3330a- 3330c, authorizes the Secretary of Labor to provide assistance to preference eligible individuals who believe their rights under the veterans' preference laws have been violated, and to investigate claims filed by those individuals.

The purposes of veterans' preference laws include: To provide preference for certain veterans over others in Federal hiring from competitive lists of applicants; to allow access and open up Federal job opportunities to veterans that might otherwise be closed to the public; and to provide preference eligible veterans with preference over others in retention during reductions in force in Federal agencies. VETS has an electronic complaint form, the VETS e1010, available on our website. The e1010 may be completed and submitted electronically without having to download, print, or mail a signed hard copy to our Atlanta data center.

This information collection is subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6. The DOL obtains OMB approval for this information collection under Control Number 1293-0002.

OMB authorization for an ICR cannot be for more than three (3) years without renewal, and the current approval for this collection is scheduled to expire on January 31, 2020. The DOL seeks to extend PRA authorization for this information collection for three (3) more years, without any change to existing requirements. The DOL notes that existing information collection requirements submitted to the OMB receive a month-to-month extension while they undergo review. For additional substantive information about this ICR, see the related notice published in the Federal Register on September 30, 2019 (84 FR 51640).

Interested parties are encouraged to send comments to the OMB, Office of Information and Regulatory Affairs at the address shown in the ADDRESSES section within thirty-(30) days of publication of this notice in the Federal Register. In order to help ensure appropriate consideration, comments should mention OMB Control Number 1293-0002. The OMB is particularly interested in comments that:

• Evaluate whether the proposed collection of information is necessary for the proper performance of the functions of the agency, including whether the information will have practical utility:

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-VETS.

Title of Collection: VETS/USERRA/VP (VETS-1010 Form).

OMB Control Number: 1293-0002.

Affected Public: Individuals or Households.

Total Estimated Number of Respondents: 2,250.

Total Estimated Number of Responses: 2,250.

Total Estimated Annual Time Burden: 1,125 hours.

Total Estimated Annual Other Costs Burden: $0.

Authority: 44 U.S.C. 3507(a)(1)(D).

Dated: January 24, 2020.
Frederick Licari,
Departmental Clearance Officer.

[FR Doc. 2020-01624 Filed 1-29-20; 8:45 am]

BILLING CODE 4510-79-P